DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 28th day of August 2009.
Linda G. Poole,
Certifying Officer, Division of Trade Adjustment Assistance.

Appendix
[TAA petitions instituted between 7/20/09 and 7/24/09]
TA-W | Subject firm (petitioners) | Location | Date of institution | Date of petition
71727 | TI Automotive (Wkrs) | Ossian, IN | 07/20/09 | 07/07/09
71728 | Baxter Healthcare Corporation (Wkrs) | Deerfield, IL | 07/20/09 | 06/25/09
71729 | Beresford Box, Inc. (other) | Spartanburg, SC | 07/20/09 | 07/17/09
71730 | Carolina Technical Plastics (Wkrs) | New Bern, NC | 07/20/09 | 07/16/09
71731 | Valentine Tool & Stamping, Inc. (Comp) | Norton, MA | 07/20/09 | 07/15/09
71732 | Mills Products (Wkrs) | Athens, TN | 07/20/09 | 07/17/09
71733 | U.S. Airways (Wkrs) | El Paso, TX | 07/20/09 | 07/16/09
71734 | Morris Yachts, Inc. (Comp) | Trenton, ME | 07/20/09 | 07/16/09
71735 | IBM (Wkrs) | Chicago, IL | 07/20/09 | 07/01/09
71736 | Texas and Northern Railway (Wkrs) | Lone Star, TX | 07/20/09 | 07/16/09
71737 | Asyst Technologies, Inc. (Wkrs) | Fremont, CA | 07/20/09 | 07/19/09
71738 | United States Gypsum (Union) | Rainer, OR | 07/20/09 | 07/17/09
71739 | Zippo Manufacturing Company (Wkrs) | Bradford, PA | 07/21/09 | 07/15/09
71740 | Charapp Chrystler, Jeep & Dodge of Kittanning (Wkrs) | Kittanning, PA | 07/21/09 | 07/13/09
71741 | JP Morgan Chase (State) | New York, NY | 07/21/09 | 07/20/09
71742 | Kilian MFG (Wkrs) | Syracuse, NY | 07/21/09 | 07/12/09
71743 | HWD Acquisition (Wkrs) | Medford, WI | 07/21/09 | 07/16/09
71744 | Young Services, Inc. (State) | Toledo, OH | 07/21/09 | 07/20/09
71745 | ServiceMaster (Wkrs) | Memphis, TN | 07/21/09 | 07/17/09
71746 | IBM Corporation (Wkrs) | Lexington, KY | 07/21/09 | 07/17/09
71747 | Qualion Corporation (Comp) | Watertown, SD | 07/21/09 | 07/20/09
71748 | Jockey International, Inc. (Comp) | Kenosha, WI | 07/21/09 | 07/20/09
71749 | Fisher & Paykel Appliances USA Holdings, Inc. (State) | Linthicum Heights, MD | 07/21/09 | 07/17/09
71750 | E. I Dupont (State) | Circleville, OH | 07/21/09 | 07/17/09
71751 | Stanley Furniture Company, Inc.—Lexington, NC (Comp) | Lexington, NC | 07/21/09 | 07/17/09
71752 | Metal Cladding, Inc. (Wkrs) | Lockport, NY | 07/21/09 | 06/25/09
71753 | Durham Manufacturing Company (Comp) | Springfield, MA | 07/21/09 | 07/17/09
71754 | RR Donnelley (Comp) | Spanish Fork, UT | 07/21/09 | 07/17/09
71755 | Bose Corporation (Wkrs) | Framingham, MA | 07/21/09 | 07/17/09
71756 | Bettcher Manufacturing LLC (Comp) | Cleveland, OH | 07/21/09 | 07/20/09
71757 | Elkhart Brass-Shreve MFG (Wkrs) | Shreve, OH | 07/21/09 | 07/17/09
71758 | TTI International, Inc. (Union) | Waukegan, IL | 07/21/09 | 07/20/09
71759 | Meridian Automotive Systems (Wkrs) | Shelleyville, IN | 07/21/09 | 07/03/09
71760 | Fair-Rite Products Corporation (State) | Flat Rock, IL | 07/22/09 | 07/19/09
71761 | Weave Corporation (Comp) | Hackensack, NJ | 07/22/09 | 07/15/09
71762 | Schadt Woodcarving and Design (Wkrs) | High Point, NC | 07/22/09 | 07/17/09
71763 | Acushnet Company (State) | Fairhaven, MA | 07/22/09 | 07/21/09
71764 | Manter Technologies (Wrks) | Marine City, MI | 07/22/09 | 06/17/09
71765 | Robin Industries—Berlin Division (Wkrs) | Berlin, OH | 07/22/09 | 07/10/09
71766 | General Electric (Union) | Cincinnati, OH | 07/22/09 | 07/21/09
71767 | General Electric—Ravenna Lamp (Wkrs) | Ravenna, OH | 07/22/09 | 07/10/09
71768 | U.S. Steel Tubular Productions (Union) | Bellville, TX | 07/22/09 | 07/21/09
71769 | Fisher & Ludlow Inc (Comp) | Saegertown, PA | 07/22/09 | 07/07/09
71770 | Bollhoff Rivnut, Inc. (Wkrs) | Kendallville, IN | 07/22/09 | 07/21/09
71771 | MEI LLC (Wkrs) | Albany, OR | 07/22/09 | 07/21/09
71772 | Hospira, Inc. (Comp) | Morgan Hill, CA | 07/22/09 | 06/23/09
71773 | Metaldyne Corporation (Comp) | Niles, IL | 07/22/09 | 07/21/09
71774 | Barriersafe Solutions International/Microflex Corp. (State) | Reno, NV | 07/22/09 | 07/13/09
71775 | Warner Bros. Entertainment Company (Wkrs) | Burbank, CA | 07/22/09 | 07/17/09
71776 | Marion and Son Landscape Services LLC | Ararat, VA | 07/22/09 | 07/20/09
71777 | Fleetwood Enterprises (Wkrs) | Riverside, CA | 07/22/09 | 06/29/09
71778 | Digital River, Inc. (State) | Eden Prairie, MN | 07/22/09 | 07/21/09
71779 | Saint-Gobain Abrasives (Wkrs) | Carol Stream, IL | 07/22/09 | 07/10/09
71780 | Getrag Corporation (State) | Sterling Heights, MI | 07/22/09 | 07/14/09
71781 | Rapid Granulator, Inc. (Wkrs) | Rockford, IL | 07/22/09 | 02/19/09
71782 | Weyerhaeuser Taylor Sawmill (State) | Taylor, LA | 07/22/09 | 07/20/09
71783 | Kenworth Truck Company (Union) | Renton, WA | 07/22/09 | 07/21/09
71784 | Mancor Indiana (Comp) | Anderson, IN | 07/23/09 | 07/22/09
71785 | Mantosea Inc., DBA Eagle Electric (Wkrs) | Dangerfield, TX | 07/23/09 | 07/13/09
71786 | Eastman Kodak Company (Comp) | Windsor, CO | 07/23/09 | 07/22/09
71787 | Thales Avionics, Inc. (Comp) | Seattle, WA | 07/23/09 | 07/17/09
71788 | Kelly Hosiery Mill Inc. (Comp) | Hickory, NC | 07/23/09 | 07/22/09
71789 | Lyon Workspace Products (Union) | Montgomory, IL | 07/23/09 | 07/21/09
71790 | Fort Wayne Foundry (Comp) | Columbia City, IN | 07/23/09 | 06/24/09
71791 | Tenneco, Inc. (Wkrs) | Monroe, MI | 07/23/09 | 07/22/09
71792 | Intel Corporation (Wkrs) | Rio Rancho, NM | 07/23/09 | 07/21/09
71793 | Cyber Optics Corporation (State) | Minneapolis, MN | 07/23/09 | 05/18/09
71794 | Behr America (Wkrs) | Troy, MI | 07/23/09 | 07/15/09
71795 | Suburban Tool, Inc. (Comp) | Auburn Hills, MI | 07/23/09 | 07/20/09
71796 | Accenture LLC (State) | Richfield, MN | 07/23/09 | 07/21/09
71797 | Broyhill Furniture Park (Comp) | Lenoir, NC | 07/23/09 | 07/22/09
71798 | Timesavers, Inc. (State) | Maple Grove, MN | 07/23/09 | 07/21/09
71799 | Electro Craft Ohio, Inc. (Wkrs) | Gallipolis, OH | 07/23/09 | 07/14/09
71800 | Dana Holding Corporation (Comp) | Orangeburg, SC | 07/24/09 | 07/23/09
71801 | Nautilus Inc. (Wkrs) | Independence, VA | 07/24/09 | 07/22/09
71802 | Trelleborg Sealing Solutions US Inc. (Comp) | Somersworth, NH | 07/24/09 | 07/20/09
71803 | Brillion Iron Works (Union) | Brillion, WI | 07/24/09 | 07/22/09
71804 | DJO Incorporated, DJO, LLC (State) | Vista, CA | 07/24/09 | 07/23/09
71805 | Autosplice, Inc. (Comp) | San Diego, CA | 07/24/09 | 07/23/09
71806 | Actel Corporation (Comp) | Mountain View, CA | 07/24/09 | 07/23/09

[FR Doc. E9-22754 Filed 9-21-09; 8:45 am]

BILLING CODE 4510-FN-P